DEPARTMENT OF JUSTICE

Notice of Lodging of Proposed Consent Decree Under the Clean Air Act

On May 2, 2017, the Department of Justice lodged a proposed consent decree with the United States District Court for the Southern District of Ohio in the lawsuit entitled United States v. PPG Industries Ohio, Inc., Civil Action No. 2:17-cv-00374.

The United States filed this action under the Clean Air Act (CAA) relating to PPG's resin manufacturing plant in Delaware, Ohio. The United States' complaint seeks civil penalties and injunctive relief for alleged violations of CAA requirements designed to limit emissions of hazardous air pollutants from equipment such as valves and open-ended lines, and requirements to reduce hazardous air pollutant emissions from storage tanks. Under the proposed Consent Decree, PPG will implement enhanced leak detection and repair measures and monitoring of storage tanks, and pay a civil penalty of $225,000.

The publication of this notice opens a period for public comment on the consent decree. Comments should be addressed to the Acting Assistant Attorney General, Environment and Natural Resources Division, and should refer to United States v. PPG Industries Ohio, Inc., D.J. Ref. No. 90-5-2-1-10745. All comments must be submitted no later than thirty (30) days after the publication date of this notice. Comments may be submitted either by email or by mail:

To submit comments: | Send them to:
By email | pubcomment-ees.enrd@usdoj.gov
By mail | Acting Assistant Attorney General, U.S. DOJ—ENRD, P.O. Box 7611, Washington, D.C. 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $13.50 (25 cents per page reproduction cost) payable to the United States Treasury.

Jeffrey Sands,
Assistant Section Chief, Environmental Enforcement Section.

[FR Doc. 2017-09558 Filed 5-10-17; 8:45 am]

BILLING CODE 4410-CW-P